DEPARTMENT OF DEFENSE

Department of the Army

Final Environmental Impact Statement for Army Training Land Retention at Kahuku Training Area, Kawailoa-Poamoho Training Area, and Makua Military Reservation, Island of O'ahu, Hawai'i (ID# EISX-007-21-001-1733763715)

AGENCY: Department of the Army, DoD.

ACTION: Notice of Availability.

SUMMARY: The Department of the Army (Army) announces the availability of a Final Environmental Impact Statement (Final EIS) regarding its proposed action to retain up to approximately 6,322 acres of land on the island of O'ahu that the Army currently leases from the State of Hawai'i (“State-owned land”). These lands comprise approximately 1,150 acres at Kahuku Training Area (KTA), approximately 4,390 acres at Kawailoa-Poamoho Training Area (Poamoho), and approximately 782 acres at Makua Military Reservation (MMR). In accordance with the National Environmental Policy Act (NEPA) and the Hawai'i Environmental Policy Act (HEPA), the Final EIS analyzes the potential direct, indirect, and cumulative impacts of a range of reasonable alternatives that meet the purpose of and need for the proposed action. Because the proposed retention involves State-owned lands, the EIS is a joint NEPA-HEPA document that meets requirements of both statutes. The Army will observe a 30-day waiting period before deciding how much land, if any, it will seek to retain.

DATES: The waiting period for the Final EIS will end 30 days after publication of this Notice of Availability in the Federal Register by the U.S. Environmental Protection Agency, at which time the Army can execute a Record of Decision.

ADDRESSES: The Final EIS and informational materials are available on the EIS website at: https://home.army.mil/hawaii/OahuEIS/project-home. The public may also review the Final EIS and select materials at the following libraries:

1. Hawai'i State Library, Hawai'i Documents Center, 478 S King Street, Honolulu, HI 96813

2. Kahuku Public and School Library, 56-490 Kamehameha Highway, Kahuku, HI 96731

3. Wahiawā Public Library, 820 California Avenue, Wahiawā, HI 96786

4. Wai'anae Public Library, 85-625 Farrington Highway, Wai'anae, HI 96792

FOR FURTHER INFORMATION CONTACT: Mr. Michael Donnelly, U.S. Army Garrison Hawai'i Public Affairs Office, by telephone at (808) 787-2140 or by email at usarmy.hawaii.nepa@army.mil.

SUPPLEMENTARY INFORMATION: U.S. Army Garrison Hawai'i is home to the 25th Infantry Division (25th ID) and other commands, the mission of which is to deploy and conduct decisive actions in support of unified land operations. 25th ID is based at Schofield Barracks on the island of O'ahu and trains on a rotational basis at various training areas, including KTA, Poamoho, and MMR.

Located in northeast O'ahu, KTA has been the site of military training since the mid-1950s. Current training activities on State-owned land at KTA include high-density, company-level helicopter training in a tactical environment, large-scale ground maneuver training, and air support training.

Located on the western slopes the Ko'olau Mountains in north-central O'ahu, Poamoho has been the site of military training since 1964. It provides airspace with ravines and deep vegetation for realistic helicopter training.

Located in northwest O'ahu, MMR has been a military training site for nearly 100 years. Tactical training at MMR began in 1941 after the attack on Pearl Harbor and military use continues to this day. Current activities on State-owned land at MMR include maneuver training, the use of restricted airspace for unmanned aerial vehicle training, as well as wildland fire suppression and security activities.

The Army published a Draft EIS on June 7, 2024. Native Hawaiian Organizations, Federal, State, and local agencies and officials, and other stakeholders were invited to participate in the public comment processes for the Draft EIS. The Army held three public meetings for the Draft EIS. Comments and responses to comments are included in the Final EIS.

The Final EIS evaluates the potential impacts of a range of reasonable alternatives:

For KTA—(1) Full Retention (of approximately 1,150 acres); (2) Modified Retention (of approximately 450 acres);

For Poamoho—(1) Full Retention (of approximately 4,390 acres); (2) Modified Retention (of approximately 3,170 acres);

For MMR—(1) Full Retention (of approximately 782 acres); (2) Modified Retention (of approximately 572 acres); (3) Minimum Retention (of approximately 162 acres and 2.4 miles of select range and firebreak roads).

The Final EIS also analyzes the potential impacts of the No-Action Alternative, under which Army use of the leased land would cease altogether when the lease expires in 2029. The Army has identified the preferred alternative as Alternative 2 at KTA and as the No-Action Alternative at Poamoho and MMR. The Army based its preference on public comments, environmental, social, technical, and economic considerations, and the ability of the alternative to meet the mission of the Army.

The Final EIS analyzes: land use; biological resources; cultural resources; cultural practices; hazardous substances and hazardous wastes; air quality and greenhouse gases; noise; geology, topography and soils; water resources; socioeconomics; environmental justice; transportation and traffic; and human health and safety.

The analyses regarding air quality, greenhouse gases, and environmental justice were prepared according to now-rescinded executive orders, and according to Council on Environmental Quality and Army NEPA implementing regulations that have been or are in the process of being rescinded. Because the analyses of air quality, greenhouse gases, and environmental justice were provided to the public for comment, they are included as part of the Final EIS for purposes of transparency and consistency.

The Final EIS indicates that significant adverse impacts could occur on land use (land tenure) and environmental justice at KTA and Poamoho under Alternatives 1 and 2, and at MMR under Alternatives 1, 2, and 3. Significant adverse impacts could occur on cultural practices with a lease or fee simple sale at MMR under Alternatives 1, 2, and 3. Some of the significant impacts for land use (land tenure) could be reduced to less than significant. The Army has identified mitigation measures in the Final EIS to mitigate adverse impacts on cultural practices and environmental justice at MMR. The modified or minimum-retention alternatives could have significant beneficial impacts on land use (land tenure) for land not retained at KTA, Poamoho, and MMR. Impacts of the action alternatives on other resources are less than significant. The No-Action Alternative could have a significant beneficial impact on land use (land tenure) and environmental justice at all areas, and on cultural practices at MMR. The No-Action Alternative could have less than significant impacts on all other resources at the three areas.

The Army distributed the Final EIS to Native Hawaiian Organizations, federal, state, and local agencies and officials, and other stakeholders.

James W. Satterwhite, Jr.,
U.S. Army Federal Register Liaison Officer.

[FR Doc. 2025-08697 Filed 5-15-25; 8:45 am]

BILLING CODE 3711-CC-P